DEPARTMENT OF TRANSPORTATION

Federal Aviation Administration

[FAA-2023-1929]

Notice of Availability of the Draft Environmental Review Document for Amended Arrival Routes at Los Angeles International Airport

AGENCY: Federal Aviation Administration (FAA), Department of Transportation.

ACTION: Public comment period for the FAA's draft environmental review document.

SUMMARY: The FAA announces the release of the draft environmental review document for the amendments to area navigation (RNAV) arrival procedures, HUULL, IRNMN, and RYDRR, at Los Angeles International Airport (KLAX), in Los Angeles, California for public review and comment. The draft environmental review document is available for public review beginning on October 2, 2023 and comments can be submitted on or before November 1, 2023. Comments can be submitted by email to 9-AJO-LAX-Community-Involvement@FAA.GOV or by mail to Federal Aviation Administration, Operations Support Group, Western Service Center, 2200 216th Street, Des Moines, WA 98198. Before including your address, phone number, email address, or other personal identifying information in your comment, be advised that your entire comment-including your personal identifying information-may be made publicly available at any time. While you can ask us in your comment to withhold from public review your personal identifying information, we cannot guarantee that we will be able to do so.

FOR FURTHER INFORMATION CONTACT: Joe Bert, Operations Support Group, Western Service Center, 2200 216th Street, Des Moines, WA 98198; telephone (206) 231-2233.

SUPPLEMENTARY INFORMATION: In accordance with the U.S. Court of Appeals for the Ninth Circuit's (Court) holding in City of Los Angeles, et al v. Dickson, No. 19-71581, the FAA is performing a new review of the potential environmental impacts of the implementation of the amendments. The Court's decision “remand[ed] the amended Arrival Routes to the FAA without vacatur, leaving the amended Arrival Routes in place while the FAA undertakes the proper National Environmental Policy Act (NEPA) analysis and National Historic Preservation Act of 1966, 16 U.S.C. 470, et seq., (NHPA) and Department of Transportation Act of 1966, 49 U.S.C § 303 (Section 4(f)) consultation.

The draft environmental review document is available on the FAA website at: https://www.faa.gov/air_traffic/community_engagement/lax.

Issued in Des Moines, WA, on September 26, 2023.
Ryan Wade Weller,
Environmental Specialist Operations Support Group Western Service Center.

[FR Doc. 2023-21614 Filed 9-29-23; 8:45 am]

BILLING CODE P